DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Lee (FEMA Docket No.: B-2175). | City of Opelika (21-04-1315P). | The Honorable Gary Fuller, Mayor, City of Opelika, P.O. Box 390, Opelika, AL 36803. | Department of Public Works, 700 Fox Trail, Opelika, AL 36803. | Dec. 22, 2021 | 010145
Mobile (FEMA Docket No.: B-2175). | City of Mobile (21-04-1400P). | The Honorable William Stimpson, Mayor, City of Mobile, P.O. Box 1827, Mobile, AL 36633. | Mobile City Clerk's Office, 205 Government Street, Mobile, AL 36602. | Dec. 30, 2021 | 015007
Morgan (FEMA Docket No.: B-2175). | Town of Priceville (20-04-3422P). | The Honorable Sam Heflin, Mayor, Town of Priceville, 242 Marco Drive, Priceville, AL 35603. | Morgan County Engineer's Office, 580 Shull Road, Hartselle, AL 35640. | Dec. 30, 2021 | 010448
Morgan (FEMA Docket No.: B-2175). | Unincorporated areas of Morgan County (20-04-3422P). | The Honorable Ray Long, Chairman, Morgan County Commission, 302 Lee Street Northeast, Decatur, AL 35601. | Morgan County Engineer's Office, 580 Shull Road, Hartselle, AL 35640. | Dec. 30, 2021 | 010175
Colorado: Denver (FEMA Docket No.: B-2161). | City and County of Denver (21-08-0769X). | The Honorable Michael B. Hancock, Mayor, City and County of Denver, 1437 Bannock Street, Room 350, Denver, CO 80202. | Department of Public Works, 201 West Colfax Avenue, Denver, CO 80202. | Dec. 3, 2021 | 080046
Delaware: Sussex (FEMA Docket No.: B-2164). | City of Rehoboth Beach (21-03-0968P). | The Honorable Stan Mills, Mayor, City of Rehoboth Beach, 229 Rehoboth Avenue, Rehoboth Beach, DE 19971. | Building and Licensing Department, 229 Rehoboth Avenue, Rehoboth Beach, DE 19971. | Dec. 13, 2021 | 105086
Florida:
Alachua (FEMA Docket No.: B-2161). | City of Gainesville (21-04-1261P). | The Honorable Lauren Poe, Mayor, City of Gainesville, 200 East University Avenue, Gainesville, FL 32601. | City Hall, 200 East University Avenue, Gainesville, FL 32601. | Dec. 1, 2021 | 125107
Alachua (FEMA Docket No.: B-2161). | Unincorporated areas of Alachua County (21-04-1261P). | Ms. Michele L. Lieberman, Manager, Alachua County, 12 South East 1st Street, Gainesville, FL 32601. | Alachua County Public Works Department, 5620 Northwest 120th Lane, Gainesville, FL 32653. | Dec. 1, 2021 | 120001
Hillsborough (FEMA Docket No.: B-2161). | Unincorporated areas of Hillsborough County (21-04-0492P). | Ms. Bonnie Wise, Hillsborough County Administrator, 601 East Kennedy Boulevard, 26th Floor, Tampa, FL 33602. | Hillsborough Public Works Department, 601 East Kennedy Boulevard, 22nd Floor, Tampa, FL 33602. | Dec. 2, 2021 | 120112
Pasco (FEMA Docket No.: B-2164). | City of Zephyrhills (20-04-6053P). | The Honorable Gene Whitfield, Mayor, City of Zephyrhills, 5335 8th Street, Zephyrhills, FL 33542. | City Hall, 5335 8th Street, Zephyrhills, FL 33542. | Dec. 16, 2021 | 120235
Polk (FEMA Docket No.: B-2161). | Unincorporated areas of Polk County (21-04-3382P). | Mr. Bill Beasley, Polk County Manager, 330 West Church Street, Bartow, FL 33830. | Polk County Floodplain Department, 330 West Church Street, Bartow, FL 33830. | Dec. 9, 2021 | 120261
Sarasota (FEMA Docket No.: B-2164). | Unincorporated areas of Sarasota County (21-04-3579P). | The Honorable Alan Maio, Chairman, Sarasota County Board of Commissioners, 1660 Ringling Boulevard, Sarasota, FL 34236. | Sarasota County Planning and Development Services Department, 1001 Sarasota Center Boulevard, Sarasota, FL 34240. | Dec. 13, 2021 | 125144
Sumter (FEMA Docket No.: B-2164). | City of Wildwood (20-04-3810P). | Mr. Jason F. McHugh, Manager, City of Wildwood, 100 North Main Street, Wildwood, FL 34785. | City Hall, 100 North Main Street, Wildwood, FL 34785. | Dec. 10, 2021 | 120299
Sumter (FEMA Docket No.: B-2164). | City of Wildwood (21-04-1158P). | Mr. Jason F. McHugh, Manager, City of Wildwood, 100 North Main Street, Wildwood, FL 34785. | City Hall, 100 North Main Street, Wildwood, FL 34785. | Dec. 10, 2021 | 120299
Sumter (FEMA Docket No.: B-2164). | Unincorporated areas of Sumter County (20-04-3810P). | The Honorable Garry Breeden, Chairman, Sumter County Board of Commissioners, 7375 Powell Road, Wildwood, FL 34785. | Sumter County Service Center, 7375 Powell Road, Wildwood, FL 34785. | Dec. 10, 2021 | 120296
Sumter (FEMA Docket No.: B-2164). | Unincorporated areas of Sumter County (21-04-1158P). | The Honorable Garry Breeden, Chairman, Sumter County Board of Commissioners, 7375 Powell Road, Wildwood, FL 34785. | Sumter County Service Center, 7375 Powell Road, Wildwood, FL 34785. | Dec. 10, 2021 | 120296
Massachusetts:
Bristol (FEMA Docket No.: B-2161). | Town of Dartmouth (21-01-0847P). | Mr. Shawn MacInnes, Town of Dartmouth Administrator, 400 Slocum Road, Dartmouth, MA 02747. | Town Hall, 400 Slocum Road, Dartmouth, MA 02747. | Dec. 2, 2021 | 250051
Middlesex (FEMA Docket No.: B-2161). | City of Waltham (20-01-1644P). | The Honorable Jeannette A. McCarthy, Mayor, City of Waltham, 610 Main Street, 2nd Floor, Waltham, MA 02452. | City Hall, 610 Main Street, Waltham, MA 02452. | Dec. 3, 2021 | 250222
Middlesex (FEMA Docket No.: B-2161). | Town of Belmont (20-01-1644P). | The Honorable Adam Dash, Chairman, Town of Belmont Select Board, 455 Concord Avenue, 2nd Floor, Belmont, MA 02478. | Community Development Department, 19 Moore Street, Belmont, MA 02478. | Dec. 3, 2021 | 250182
North Dakota: Cass (FEMA Docket No.: B-2171). | City of Harwood (21-08-0691X). | The Honorable Blake Hankey, Mayor, City of Harwood, 108 Main Street, Harwood, ND 58042. | City Hall, 108 Main Street, Harwood, ND 58042. | Dec. 2, 2021 | 380338
Pennsylvania:
Cumberland (FEMA Docket No.: B-2161). | Borough of Mechanicsburg (21-03-0690P). | The Honorable Jack Ritter, Mayor, Borough of Mechanicsburg, 36 West Allen Street, Mechanicsburg, PA 17055. | Borough Hall, 36 West Allen Street, Mechanicsburg, PA 17055. | Dec. 3, 2021 | 420362
Cumberland (FEMA Docket No.: B-2161). | Township of Upper Allen (21-03-0690P). | The Honorable Kenneth M. Martin, President, Township of Upper Allen Board of Commissioners, 100 Gettysburg Pike, Mechanicsburg, PA 17055. | Township Hall, 100 Gettysburg Pike, Mechanicsburg, PA 17055. | Dec. 3, 2021 | 420372
Texas:
Angelina (FEMA Docket No.: B-2161). | City of Lufkin (20-06-3596P). | The Honorable Mark Hicks, Mayor, City of Lufkin, 300 East Shepherd Avenue, Lufkin, TX 75901. | Engineering Services Department, 300 East Shepherd Avenue, Lufkin, TX 75901. | Dec. 9, 2021 | 480009
Denton and Tarrant (FEMA Docket No.: B-2171). | City of Fort Worth (21-06-1349P). | The Honorable Mattie Parker, Mayor, City of Fort Worth, 200 Texas Street, Fort Worth, TX 76102. | Transportation and Public Works Department, Engineering Vault, 200 Texas Street, Fort Worth, TX 76102. | Dec. 3, 2021 | 480596
Denton (FEMA Docket No.: B-2161). | City of Lewisville (21-06-1150P). | The Honorable T.J. Gilmore, Mayor, City of Lewisville, P.O. Box 299002, Lewisville, TX 75029. | Engineering Department, 151 West Church Street, Lewisville, TX 75057. | Dec. 13, 2021 | 480195
Harris (FEMA Docket No.: B-2171). | Unincorporated areas of Harris County (21-06-0685P). | The Honorable Lina Hidalgo, Harris County Judge, 1001 Preston Street, Suite 911, Houston, TX 77002. | Harris County Permit Office, 10555 Northwest Freeway, Suite 120, Houston, TX 77092. | Dec. 13, 2021 | 480287
Tarrant (FEMA Docket No.: B-2171). | City of Arlington (20-06-3516P). | The Honorable Jim Ross, Mayor, City of Arlington, P.O. Box 90231, Arlington, TX 76004. | Public Works and Transportation Department, 101 West Abram Street, Arlington, TX 76010. | Dec. 3, 2021 | 485454
Tarrant (FEMA Docket No.: B-2171). | City of Fort Worth (20-06-3516P). | The Honorable Mattie Parker, Mayor, City of Fort Worth, 200 Texas Street, Fort Worth, TX 76102. | Transportation and Public Works Department, Engineering Vault, 200 Texas Street, Fort Worth, TX 76102. | Dec. 3, 2021 | 480596
Virginia:
Fairfax (FEMA Docket No.: B-2164). | City of Alexandria (21-03-0303P). | The Honorable Justin M. Wilson, Mayor, City of Alexandria, 301 King Street, Room 2300, Alexandria, VA 22314. | City Hall, 301 King Street, Room 4200, Alexandria, VA 22314. | Dec. 13, 2021 | 515519
Fairfax (FEMA Docket No.: B-2164). | Unincorporated areas of Fairfax County (21-03-0303P). | The Honorable Jeffrey C. McKay, Chairman At-Large, Fairfax County Board of Supervisors, 12000 Government Center Parkway, Suite 530, Fairfax, VA 22035. | Fairfax County Department of Public Works and Environmental Services, 12000 Government Center Parkway, Fairfax, VA 22035. | Dec. 13, 2021 | 515525
Independence City (FEMA Docket No.: B-2164). | City of Lynchburg (21-03-0004P). | Mr. Reid A. Wodicka, Interim Manager, City of Lynchburg, 900 Church Street, Lynchburg, VA 24504. | City Hall, 900 Church Street, Lynchburg, VA 24504. | Dec. 13, 2021 | 510093

[FR Doc. 2022-01618 Filed 1-26-22; 8:45 am]

BILLING CODE 9110-12-P